NUCLEAR REGULATORY COMMISSION

[NRC-2020-0132]

Environmental Assessments and Findings of No Significant Impacts of Independent Spent Fuel Storage Facilities Decommissioning Funding Plans

AGENCY: Nuclear Regulatory Commission.

ACTION: Environmental assessment and finding of no significant impacts; issuance.

SUMMARY: The U.S. Nuclear Regulatory Commission (NRC) is publishing this notice regarding the issuance of a Final Environmental Assessment (EA) and a Finding of No Significant Impacts (FONSI) for its review and approval of the initial and updated decommissioning funding plans submitted by independent spent fuel storage installation (ISFSI) licensees for the ISFSIs listed in the “Discussion” section of this document.

DATES: November 30, 2020.

ADDRESSES: Please refer to Docket ID NRC-2020-0132 when contacting the NRC about the availability of information regarding this document. You may obtain publicly available information related to this document using any of the following methods:

• Federal Rulemaking website: Go to https://www.regulations.gov and search for Docket ID NRC-2020-0132. Address questions about Docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents is currently closed. You may submit your request to the PDR via email at PDR.Resource@nrc.gov or call 1-800-397-4209 between 8:00 a.m. and 4:00 p.m. (EST), Monday through Friday, except Federal holidays.

FOR FURTHER INFORMATION CONTACT: Donald Habib, telephone: 301-415-1035, email: Donald.Habib@nrc.gov or Bernard White, telephone: 301-415-6577, email: Bernie.White@nrc.gov. Both are staff of the Office of Nuclear Material Safety and Safeguards at the U.S. Nuclear Regulatory Commission, Washington, DC 20555-0001.

SUPPLEMENTARY INFORMATION:

I. Introduction

The NRC is considering the approval of the initial and updated decommissioning funding plans (DFPs) submitted by ISFSI licensees. The NRC staff has prepared a Final EA and FONSI determination for each of the initial and updated ISFSI DFPs in accordance with the NRC regulations in part 51 of title 10 of the Code of Federal Regulations (10 CFR), “Environmental Protection Regulations for Domestic Licensing and Related Regulatory Functions,” which implement the National Environmental Policy Act of 1969, as amended (42 U.S.C. 4321 et seq.).

The NRC requires its licensees to plan for the eventual decommissioning of their licensed facilities prior to license termination. On June 17, 2011, the NRC published a final rule in the Federal Register amending its decommissioning planning regulations (76 FR 35511). The final rule amended the NRC regulation, 10 CFR 72.30, which concerns financial assurance and decommissioning for ISFSIs. This regulation requires each holder of, or applicant for, a license under 10 CFR part 72 to submit a DFP for the NRC's review and approval. The DFP is to demonstrate the licensee's financial assurance, i.e., that funds will be available to decommission the ISFSI.

II. Discussion

The table in this notice includes the plant name, docket number, licensee, and ADAMS Accession Number for the Final EA and FONSI determination for each of the individual ISFSIs. The table also includes the ADAMS Accession Number for other relevant documents, including the initial and updated DFP submittals, as well as the financial analyses documenting the findings of reasonable assurance that funds will be available to decommission the ISFSIs. For further details with respect to these actions, see the NRC staff's Final EA and FONSI determinations and financial analyses approving the DFP, which are available for public inspection in ADAMS and at https://www.regulations.gov under Docket ID NRC-2020-0132. For additional direction on accessing information related to this document, see the ADDRESSES section of this document.

Finding of No Significant Impacts
Arkansas Nuclear One, Units 1 and 2
Docket No. | 72-13.
Licensee | Entergy Operations, Inc., currently Entergy Nuclear Company, LLC (Entergy).
Proposed Action | The NRC's review and approval of Entergy's initial and updated DFPs submitted in accordance with 10 CFR 72.30(b) and (c).
Environmental Impacts of Proposed Action | The NRC staff has determined that the proposed action, the review and approval of Entergy's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Entergy's initial and updated DFPs. The scope of the proposed action does not include, and will not result in, the review and approval of decontamination or decommissioning activities or license termination for the ISFSI or for other parts of Arkansas Nuclear One, Units 1 and 2. Therefore, the NRC staff determined that approval of the initial and updated DFPs for the Arkansas Nuclear ISFSI will not significantly affect the quality of the human environment, and accordingly, the staff has concluded that a FONSI is appropriate. The NRC staff further finds that preparation of an environmental impact statement (EIS) is not required.
Available Documents | Entergy Operations, Inc., 2012. ISFSI Decommissioning Funding Plans (10 CFR 72.30), December 17, 2012. ADAMS Accession No. ML12354A131.
| Entergy Operations, Inc., 2015. ISFSI Decommissioning Funding Plans (10 CFR 72.30), December 17, 2015. ADAMS Accession No. ML15351A523.
| Entergy Operations, Inc., 2018. Response to Request for Additional Information Regarding ISFSI Decommissioning Funding Plans (10 CFR 72.30). April 10, 2018. ADAMS Accession No. ML18101A902.
| U.S. Nuclear Regulatory Commission. Letter to B. Bevill, AR Dept of Health, re: Review of the Draft EA and FONSI for the ANO, Units 1 and 2 ISFSI Decommissioning Funding Plan (72-13) L24819. July 8, 2016. ADAMS Accession No. ML16190A297.
| U.S. Nuclear Regulatory Commission. Final Environmental Assessment and Finding of No Significant Impacts for Entergy Nuclear Company, LLC 's Initial and Updated Decommissioning Funding Plans Submitted in Accordance with 10 CFR 72.30(b) and (c) for Arkansas Nuclear One, Units 1 and 2 Independent Spent Fuel Storage Installation. November 2020. ADAMS Accession Package No. ML20149K448.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission Analysis of Entergy Services, Inc.'s Initial and Updated Decommissioning Funding Plans for Arkansas Nuclear One, Units 1 and 2; Grand Gulf Nuclear Station, Unit 1; River Bend Station, Unit 1; and Waterford Steam Electric Station, Unit 3 Independent Spent Fuel Storage Installations. November 2020. ADAMS Accession No. ML20267A285.
Grand Gulf Nuclear Station, Unit 1
Docket No. | 72-50.
Licensee | Entergy Operations, Inc., currently Entergy Nuclear Company, LLC (Entergy).
Proposed Action | The NRC's review and approval of Entergy's initial and updated DFPs submitted in accordance with 10 CFR 72.30(b) and (c).
Environmental Impacts of Proposed Action | The NRC staff has determined that the proposed action, the review and approval of Entergy's initial and updated DFPs, submitted in accordance with 10 CFR 72.30(b) and (c), will not authorize or changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Entergy's DFPs. The scope of the proposed action does not include, and will not result in, the review and approval of decontamination or decommissioning activities or license termination for the ISFSI or for other parts of Grand Gulf Nuclear Station. Therefore, the NRC staff determined that approval of the initial and updated DFPs for the Grand Gulf ISFSI will not significantly affect the quality of the human environment, and accordingly, the staff has concluded that a FONSI is appropriate. The NRC staff further finds that preparation of an environmental impact statement (EIS) is not required.
Available Documents | Entergy Operations, Inc., 2012. ISFSI Decommissioning Funding Plans (10 CFR 72.30), December 17, 2012. ADAMS Accession No. ML12354A131.
| Entergy Operations, Inc., 2015. ISFSI Decommissioning Funding Plans (10 CFR 72.30), December 17, 2015. ADAMS Accession No. ML15351A523.
| Entergy Operations, Inc., 2018. Response to Request for Additional Information Regarding ISFSI Decommissioning Funding Plans (10 CFR 72.30). April 10, 2018. ADAMS Accession No. ML18101A902.
| U.S. Nuclear Regulatory Commission. Letter to J. Giarrusso, Jr. re: U.S. Nuclear Regulatory Commission Preliminary Determination of No Effects Regarding the Grand Gulf Nuclear Station Independent Spent Fuel Storage Installation Decommissioning Funding Plan. September 2, 2016. ADAMS Accession No. ML16250A460.
| U.S. Nuclear Regulatory Commission. Final Environmental Assessment and Finding of No Significant Impacts for Entergy Nuclear Company, LLC's Initial and Updated Decommissioning Funding Plans Submitted in Accordance with 10 CFR 72.30(b) and (c) for Grand Gulf Nuclear Station Independent Spent Fuel Storage Installation. November 2020. ADAMS Accession Package No. ML20150A262.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission Analysis of Entergy Services, Inc.'s Initial and Updated Decommissioning Funding Plans for Arkansas Nuclear One, Units 1 and 2; Grand Gulf Nuclear Station, Unit 1; River Bend Station, Unit 1; and Waterford Steam Electric Station, Unit 3 Independent Spent Fuel Storage Installations. November 2020. ADAMS Accession No. ML20267A285.
River Bend Station, Unit 1
Docket No. | 72-49.
Licensee | Entergy Operations, Inc., currently Entergy Nuclear Company, LLC (Entergy),
Proposed Action | The NRC's review and approval of Entergy's initial and updated DFPs submitted in accordance with 10 CFR 72.30(b) and (c).
Environmental Impacts of Proposed Action | The NRC staff has determined that the proposed action, the review and approval of Entergy's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Entergy's initial and updated DFPs. The scope of the proposed action does not include, and will not result in, the review and approval of decontamination or decommissioning activities or license termination for the ISFSI or for other parts of River Bend Station, Unit 1 site. Therefore, the NRC staff determined that approval of the initial and updated DFPs for the River Bend ISFSI will not significantly affect the quality of the human environment, and accordingly, the staff has concluded that a FONSI is appropriate. The NRC staff further finds that preparation of an environmental impact statement (EIS) is not required.
Available Documents | Entergy Operations, Inc., 2012. ISFSI Decommissioning Funding Plans (10 CFR 72.30), December 17, 2012. ADAMS Accession No. ML12354A131.
| Entergy Operations, Inc., 2015. ISFSI Decommissioning Funding Plans (10 CFR 72.30), December 17, 2015. ADAMS Accession No. ML15351A523.
| Entergy Operations, Inc., 2018. Response to Request for Additional Information Regarding ISFSI Decommissioning Funding Plans (10 CFR 72.30). April 10, 2018. ADAMS Accession No. ML18101A902.
| U.S. Nuclear Regulatory Commission. Letter to R. Blackwell. re: Review of the Draft Environmental Assessment and Finding of No Significant Impact for the River Bend Station Independent Spent Fuel Storage Installation Decommissioning Funding Plan. August 17, 2017. ADAMS Accession No. ML17226A187.
| U.S. Nuclear Regulatory Commission. Final Environmental Assessment and Finding of No Significant Impacts for Entergy Nuclear Company, LLC's Initial and Updated Decommissioning Funding Plans Submitted in Accordance with 10 CFR 72.30(b) and (c) for River Bend Station, Unit 1 Independent Spent Fuel Storage Installation. November 2020. ADAMS Accession Package No. ML20150A266.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission Analysis of Entergy Services, Inc.'s Initial and Updated Decommissioning Funding Plans for Arkansas Nuclear One, Units 1 and 2; Grand Gulf Nuclear Station, Unit 1; River Bend Station, Unit 1; and Waterford Steam Electric Station, Unit 3 Independent Spent Fuel Storage Installations. November 2020. ADAMS Accession No. ML20267A285.
Waterford Steam Electric Station, Unit 3
Docket No. | 72-75.
Licensee | Entergy Operations, Inc., currently Entergy Nuclear Company, LLC (Entergy).
Proposed Action | The NRC's review and approval of Entergy's initial and updated DFPs submitted in accordance with 10 CFR 72.30(b) and (c).
Environmental Impacts of Proposed Action | The NRC staff has determined that the proposed action, the review and approval of Entergy's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Entergy's initial and updated DFPs. The scope of the proposed action does not include, and will not result in, the review and approval of decontamination or decommissioning activities or license termination for the ISFSI or for other parts of Waterford Steam Electric Station Unit 3. Therefore, the NRC staff determined that approval of the initial and updated DFPs for the Waterford Steam Electric Station ISFSI will not significantly affect the quality of the human environment, and accordingly, the staff has concluded that a FONSI is appropriate. The NRC staff further finds that preparation of an environmental impact statement (EIS) is not required.
Available Documents | Entergy Operations, Inc., 2012. ISFSI Decommissioning Funding Plans (10 CFR 72.30), December 17, 2012. ADAMS Accession No. ML12354A131.
| Entergy Operations, Inc., 2015. ISFSI Decommissioning Funding Plans (10 CFR 72.30), December 17, 2015. ADAMS Accession No. ML15351A523.
| Entergy Operations, Inc., 2018. Response to Request for Additional Information Regarding ISFSI Decommissioning Funding Plans (10 CFR 72.30). April 10, 2018. ADAMS Accession No. ML18101A902.
| U.S. Nuclear Regulatory Commission. Letter to R. Blackwell re: Review of the Draft Environmental Assessment and Finding of No Significant Impact for the Waterford Independent Spent Fuel Storage Installation Decommissioning Funding Plan. August 17, 2017. ADAMS Accession No. ML17227A045.
| U.S. Nuclear Regulatory Commission. Final Environmental Assessment and Finding of No Significant Impacts for Entergy Nuclear Company, LLC's, Initial and Updated Decommissioning Funding Plans Submitted in Accordance with 10 CFR 72.30(b) and (c) for Waterford Steam Electric Station, Unit 3 Independent Spent Fuel Storage Installation. November 2020. ADAMS Accession Package No. ML20150A271.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission Analysis of Entergy Services, Inc.'s Initial and Updated Decommissioning Funding Plans for Arkansas Nuclear One, Units 1 and 2; Grand Gulf Nuclear Station, Unit 1; River Bend Station, Unit 1; and Waterford Steam Electric Station, Unit 3 Independent Spent Fuel Storage Installations. November 2020. ADAMS Accession No. ML20267A285.
Braidwood Station, Units 1 and 2
Docket No. | 72-73.
Licensee | Exelon Generation Co., LLC (EGC or Exelon).
Proposed Action | The NRC's review and approval of Exelon's initial and updated DFPs submitted in accordance with 10 CFR 72.30(b) and (c).
Environmental Impacts of Proposed Action | The NRC staff has determined that the proposed action, the review and approval of Exelon's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's initial and updated DFPs. The scope of the proposed action does not include, and will not result in, the review and approval of decontamination or decommissioning activities or license termination for the ISFSI or for other parts of Braidwood Station, Units 1 and 2. Therefore, the NRC staff determined that approval of the initial and updated DFPs for the Braidwood ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to J. G. Klinger, Illinois Emergency Management Agency Division of Nuclear Safety, re: Review of the Draft EA and FONSI for the Braidwood, Units 1 and 2 ISFSI Decommissioning Funding Plan (72-73) L24788. June 22, 2016. ADAMS Accession No. ML16174A437.
| U.S. Nuclear Regulatory Commission. Final Environmental Assessment and Finding of No Significant Impacts for Exelon Generation Company, LLC's Initial and Updated Decommissioning Funding Plans Submitted in Accordance with 10 CFR 72.30(b) and (c) for Braidwood Station, Units 1 and 2 Independent Spent Fuel Storage Installation. November 2020. ADAMS Accession Package No. ML20150A278.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Exelon Generation Company, LLC.'s Initial Decommissioning Funding Plans and Decommissioning Fund Plan Updates for the Braidwood, Byron, Dresden, LaSalle, Limerick, Oyster Creek, Peach Bottom, Quad Cities and Salem Independent Spent Fuel Storage Installations. November 2020. ADAMS Accession No. ML20279A501.
Byron Station, Units 1 and 2
Docket No. | 72-68.
Licensee | Exelon Generation Co., LLC (EGC or Exelon).
Proposed Action | The NRC's review and approval of Exelon's initial and updated DFPs submitted in accordance with 10 CFR 72.30(b) and (c).
Environmental Impacts of Proposed Action | The NRC staff has determined that the proposed action, the review and approval of Exelon's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's initial and updated DFPs. The scope of the proposed action does not include, and will not result in, the review and approval of decontamination or decommissioning activities or license termination for the ISFSI or for other parts of Byron [Station], Units 1 and 2. Therefore, the NRC staff determined that approval of the initial and updated DFPs for the Byron ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to J. G. Klinger, Illinois Emergency Management Agency Division of Nuclear Safety, re: Review of the Draft EA and FONSI for the Byron, Units 1 and 2 ISFSI Decommissioning Funding Plan (72-68) L24789. June 23, 2016. ADAMS Accession No. ML16174A020.
| U.S. Nuclear Regulatory Commission. Final Environmental Assessment and Finding of No Significant Impacts for Exelon Generation Company, LLC's Initial and Updated Decommissioning Funding Plans Submitted in Accordance with 10 CFR 72.30(b) and (c) for Byron Station, Units 1 and 2 Independent Spent Fuel Storage Installation. November 2020. ADAMS Accession Package No. ML20150A274.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Exelon Generation Company, LLC's Initial Decommissioning Funding Plans and Decommissioning Fund Plan Updates for the Braidwood, Byron, Dresden, LaSalle, Limerick, Oyster Creek, Peach Bottom, Quad Cities and Salem Independent Spent Fuel Storage Installations. November 2020. ADAMS Accession No. ML20279A501.
Calvert Cliffs Nuclear Power Plant, Units 1 and 2
Docket No. | 72-08.
Licensee | Exelon Generation Co., LLC (EGC or Exelon) and Constellation Energy Nuclear Group, LLC (CENG).
Proposed Action | The NRC's review and approval of CENG's initial and Exelon's updated DFPs submitted in accordance with 10 CFR 72.30(b) and (c).
Environmental Impacts of Proposed Action | The NRC staff has determined that the proposed action, the review and approval of CENG's initial and Exelon's updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of CENG's initial and Exelon's updated DFPs. The scope of the proposed action does not include, and will not result in, the review and approval of decontamination or decommissioning activities or license termination for the ISFSI or for other parts of Calvert Cliffs Nuclear Power Plant, Units 1 and 2. Therefore, the NRC staff determined that approval of CENG's initial and Exelon's updated DFPs for the Calvert Cliffs ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to T. Levering, Maryland Department of Environment, re: Review of the Draft EA and FONSI for the Calvert Cliffs Nuclear Power Plant, Units 1 and 2 ISFSI Decommissioning Funding Plan (72-08) L24809. July 8, 2016. ADAMS Accession No. ML16190A351.
| U.S. Nuclear Regulatory Commission. Final Environmental Assessment and Finding of No Significant Impacts for Constellation Energy Nuclear Group, LLC's Initial and Exelon Generation Company, LLC's Updated Decommissioning Funding Plans Submitted in Accordance with 10 CFR 72.30(b) and (c) for Calvert Cliffs Nuclear Power Plants, Units 1 and 2 Independent Spent Fuel Storage Installation. November 2020. ADAMS Accession Package No. ML20150A274.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Constellation Energy Nuclear Group, LLC.'s Initial Decommissioning Funding Plans and Exelon Generation Company, LLC's Decommissioning Fund Updates for the Calvert Cliffs, Nine Mile Point, and R.E. Ginna Independent Spent Fuel Storage Installations. October 2020. ADAMS Accession No. ML20279A586.
Clinton Power Station, Unit 1
Docket No. | 72-1046.
Licensee | Exelon Generation Co., LLC (ECG or Exelon).
Proposed Action | The NRC's review and approval of Exelon initial DFP submitted in accordance with 10 CFR 72.30(b).
Environmental Impacts of Proposed Action | The NRC staff has determined that the proposed action, the review and approval of Exelon's initial DFP, submitted in accordance with 10 CFR 72.30(b), will not authorize changes to licensed operations or maintenance activities, or result in changes in the types, characteristics, or quantities of radiological or non-radiological effluents released into the environment from the ISFSI, or result in the creation of solid waste. Moreover, the approval of the initial DFP will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's initial DFP. The scope of the proposed action does not include, and will not result in, the review and approval of decontamination or decommissioning activities or license termination for the ISFSI or for other parts of Clinton Power Station, Unit 1. Therefore, the NRC staff determined that approval of the initial DFP for the Clinton ISFSI will not significantly affect the quality of the human environment, and accordingly, the staff has concluded that a FONSI is appropriate. The NRC staff further finds that preparation of an environmental impact statement (EIS) is not required.
Available Documents | Exelon Generation Company, LLC (EGC), 2015. Report on Status of Decommissioning Funding for Reactors and Independent Spent Fuel Storage Installation. March 31, 2015. ADAMS Accession No. ML15090A537.
| EGC, 2016. Proposed Independent Spent Fuel Storage Installation (ISFSI) Decommissioning Funding Plans for Clinton Power Station. September 6, 2016. ADAMS Accession No. ML16251A032.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to J. G. Klinger, Illinois Emergency Management Agency Division of Nuclear Safety, re: Review of the Draft EA and FONSI for the Clinton Power Station, Unit 1 ISFSI Decommissioning Funding Plan (72-1046) L25216. June 16, 2017. ADAMS Accession No. ML17167A007.
| U.S. Nuclear Regulatory Commission. Final Environmental Assessment and Finding of No Significant Impacts for Exelon Generation Company, LLC's Initial Decommissioning Funding Plan Submitted in Accordance with 10 CFR 72.30(b) for Clinton Power Station, Unit 1 Independent Spent Fuel Storage Installation. October 2020. ADAMS Accession Package No. ML20212L744.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Exelon Generation Company, LLC's Initial Decommissioning Funding Plan for Clinton Power Station, Unit 1 Independent Spent Fuel Storage Installation. October 2020. ADAMS Accession No. ML20260H376.
Dresden Nuclear Power Station, Units 1, 2, and 3
Docket No. | 72-37.
Licensee | Exelon Generation Co., LLC (EGC or Exelon).
Proposed Action | The NRC's review and approval of Exelon's initial and updated DFPs submitted in accordance with 10 CFR 72.30(b) and (c).
Environmental Impacts of Proposed Action | The NRC staff has determined that the proposed action, the review and approval of Exelon's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's initial and updated DFPs. The scope of the proposed action does not include, and will not result in, the review and approval of decontamination or decommissioning activities or license termination for the ISFSI or for other parts of Dresden Nuclear Power Station, Units 1, 2, and 3. Therefore, the NRC staff determined that approval of the initial and updated DFPs for the Dresden ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to J. G. Klinger, Illinois Emergency Management Agency Division of Nuclear Safety, re: Review of the Draft EA and FONSI for the Dresden Station, Units 1, 2, and 3 ISFSI Decommissioning Funding Plan (72-73) L24790. June 29, 2016. ADAMS Accession No. ML16181A186.
| U.S. Nuclear Regulatory Commission. Final Environmental Assessment and Finding of No Significant Impacts for Exelon Generation Company, LLC's Initial and Updated Decommissioning Funding Plans Submitted in Accordance with 10 CFR 72.30(b) and (c) for Dresden Nuclear Station, Units 1, 2, and 3 Independent Spent Fuel Storage Installation. November 2020. ADAMS Accession Package No. ML20150A237.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Exelon Generation Company, LLC's Initial Decommissioning Funding Plans and Decommissioning Fund Plan Updates for the Braidwood, Byron, Dresden, LaSalle, Limerick, Oyster Creek, Peach Bottom, Quad Cities and Salem Independent Spent Fuel Storage Installations. November 2020. ADAMS Accession No. ML20279A501.
R.E. Ginna Nuclear Power Plant
Docket No. | 72-67.
Licensee | Exelon Generation Co., LLC (EGC or Exelon) and Constellation Energy Nuclear Group, LLC (CENG).
Proposed Action | The NRC's review and approval of CENG's initial and Exelon's updated DFPs submitted in accordance with 10 CFR 72.30(b) and (c).
Environmental Impacts of Proposed Action | The NRC staff has determined that the proposed action, the review and approval of CENG's initial and Exelon's updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of CENG's initial and Exelon's updated DFPs. The scope of the proposed action does not include, and will not result in, the review and approval of decontamination or decommissioning activities or license termination for the ISFSI or for other parts of R.E. Ginna Nuclear Power Plant. Therefore, the NRC staff determined that approval of the initial and updated DFPs for the Ginna ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to J. Rhodes, New York State Energy Research and Development Authority, re: Review of the Draft EA and FONSI for the R.E. Ginna Nuclear Power Plant ISFSI Decommissioning Funding Plan (72-67) L24841. August 17, 2017. ADAMS Accession No. ML17226A324.
| U.S. Nuclear Regulatory Commission. Final Environmental Assessment and Finding of No Significant Impact for Constellation Energy Nuclear Group, LLC's Initial Decommissioning Funding Plan and Exelon Generation Company, LLC's Updated Decommissioning Funding Plan Submitted in Accordance with 10 CFR 72.30(b) and (c) for Ginna Independent Spent Fuel Storage Installation. November 2020. ADAMS Accession Package No. ML20212L880.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Constellation Energy Nuclear Group, LLC.'s Initial Decommissioning Funding Plans and Exelon Generation Company, LLC's Decommissioning Fund Updates for the Calvert Cliffs, Nine Mile Point, and R.E. Ginna Independent Spent Fuel Storage Installations. November 2020. ADAMS Accession No. ML20279A586.
LaSalle County Station, Units 1 and 2
Docket No. | 72-70.
Licensee | Exelon Generation Co., LLC (EGC or Exelon).
Proposed Action | The NRC's review and approval of Exelon's initial and updated DFPs submitted in accordance with 10 CFR 72.30(b) and (c).
Environmental Impacts of Proposed Action | The NRC staff has determined that the proposed action, the review and approval of Exelon's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's initial and updated DFPs. The scope of the proposed action does not include, and will not result in, the review and approval of decontamination or decommissioning activities or license termination for the ISFSI or for other parts of LaSalle [County] Station Units 1 and 2. Therefore, the NRC staff determined that approval of the initial and updated DFPs for the LaSalle ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to J. G. Klinger, Illinois Emergency Management Agency Division of Nuclear Safety, re: Review of the Draft EA and FONSI for the LaSalle Station Units 1 and 2 ISFSI Decommissioning Funding Plan (72-70) L24790. June 29, 2016. ADAMS Accession No. ML16182A170.
| U.S. Nuclear Regulatory Commission. Final Environmental Assessment and Finding of No Significant Impacts for Exelon Generation Company, LLC'S Initial and Updated Decommissioning Funding Plans Submitted in Accordance with 10 CFR 72.30(b) and (c) for LaSalle Independent Spent Fuel Storage Installation. November 2020. ADAMS Accession Package No. ML20150A241.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Exelon Generation Company, LLC's Initial Decommissioning Funding Plans and Decommissioning Fund Plan Updates for the Braidwood, Byron, Dresden, LaSalle, Limerick, Oyster Creek, Peach Bottom, Quad Cities and Salem Independent Spent Fuel Storage Installations. November 2020. ADAMS Accession No. ML20279A501.
Limerick Generating Station, Units 1 and 2
Docket No. | 72-65.
Licensee | Exelon Generation Co., LLC (EGC or Exelon).
Proposed Action | The NRC's review and approval of Exelon's initial and updated DFPs submitted in accordance with 10 CFR 72.30(b) and (c).
Environmental Impacts of Proposed Action | The NRC staff has determined that the proposed action, the review and approval of Exelon's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's initial and updated DFPs. The scope of the proposed action does not include, and will not result in, the review and approval of decontamination or decommissioning activities or license termination for the ISFSI or for other parts of Limerick Generating Station Units 1 and 2. Therefore, the NRC staff determined that approval of the initial and updated DFPs for the Limerick ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to D. Allard, Bureau of Radiation Protection PA Department of Environmental Protection, re: Review of the Draft EA and FONSI for the Limerick ISFSI Decommissioning Funding Plan (72-65) L24793. April 25, 2016. ADAMS Accession No. ML16120A594.
| U.S. Nuclear Regulatory Commission. Final Environmental Assessment and Finding of No Significant Impacts for Exelon Generation Company, LLC'S initial and Updated Decommissioning Funding Plans Submitted in Accordance with 10 CFR 72.30(b) and (c) for Limerick Independent Spent Fuel Storage Installation. November 2020. ADAMS Accession No. ML20212L817.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Exelon Generation Company, LLC's Initial Decommissioning Funding Plans and Decommissioning Fund Plan Updates for the Braidwood, Byron, Dresden, LaSalle, Limerick, Oyster Creek, Peach Bottom, Quad Cities and Salem Independent Spent Fuel Storage Installations. November 2020. ADAMS Accession No. ML20279A501.
Nine Mile Point Nuclear Station, Units 1 and 2
Docket No. | 72-1036.
Licensee | Exelon Generation Co., LLC (EGC or Exelon) and Constellation Energy Nuclear Group, LLC (CENG).
Proposed Action | The NRC's review and approval of CENG's initial and Exelon's updated DFPs submitted in accordance with 10 CFR 72.30(b) and (c).
Environmental Impacts of Proposed Action | The NRC staff has determined that the proposed action, the review and approval of CENG's initial and Exelon's updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of CENG's initial and EGC's updated DFPs. The scope of the proposed action does not include, and will not result in, the review and approval of decontamination or decommissioning activities or license termination for the ISFSI or for other parts of Nine Mile Point Nuclear Station, Units 1 and 2. Therefore, the NRC staff determined that approval of the initial and updated DFPs for the Nine Mile Point ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to J. Rhodes, New York State Energy Research and Development Authority, re: Review of the Draft EA and FONSI for the Nine Mile Point ISFSI Decommissioning Funding Plan (72-1036) L24836. September 26, 2016. ADAMS Accession No. ML16270A063.
| U.S. Nuclear Regulatory Commission. Final Environmental Assessment and Finding of No Significant Impacts for Constellation Energy Nuclear Group, LLC's and Exelon Generation Company, LLC's Initial and Updated Decommissioning Funding Plans Submitted in Accordance with 10 CFR 72.30(b) and (c) for Nine Mile Point Independent Spent Fuel Storage Installation. November 2020. ADAMS Accession Package No. ML20212L881.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Constellation Energy Nuclear Group, LLC's Initial Decommissioning Funding Plans and Exelon Generation Company, LLC's Decommissioning Fund Updates for the Calvert Cliffs, Nine Mile Point, and R.E. Ginna Independent Spent Fuel Storage Installations. November 2020. ADAMS Accession No. ML20279A586.
Oyster Creek
Docket No. | 72-15.
Licensee | Exelon Generation Co., LLC (EGC or Exelon).
Proposed Action | The NRC's review and approval of Exelon's initial and updated DFPs submitted in accordance with 10 CFR 72.30(b) and (c).
Environmental Impacts of Proposed Action | The NRC staff has determined that the proposed action, the review and approval of Exelon's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's initial and updated DFPs. The scope of the proposed action does not include, and will not result in, the review and approval of decontamination or decommissioning activities or license termination for the ISFSI or for other parts of Oyster Creek Nuclear Generating Station. Therefore, the NRC staff determined that approval of the initial and updated DFPs for the Oyster Creek ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to P. Baldauf, Department of Environmental Protection Division of Environmental Safety and Health, re: Review of the Draft EA and FONSI for the Oyster Creek ISFSI Decommissioning Funding Plan (72-15) L24794. October 19, 2016. ADAMS Accession No. ML16294A071.
| U.S. Nuclear Regulatory Commission. Final Environmental Assessment and Finding of No Significant Impacts for Exelon Generation Company, LLC's Initial and Updated Decommissioning Funding Plans Submitted in Accordance with 10 CFR 72.30(b) and (c) for Oyster Creek Independent Spent Fuel Storage Installation. November 2020. ADAMS Accession No. ML20150A243.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Exelon Generation Company, LLC's Initial Decommissioning Funding Plans and Decommissioning Fund Plan Updates for the Braidwood, Byron, Dresden, LaSalle, Limerick, Oyster Creek, Peach Bottom, Quad Cities and Salem Independent Spent Fuel Storage Installations. November 2020. ADAMS Accession No. ML20279A501.
Peach Bottom Atomic Power Station, Units 2 and 3
Docket No. | 72-29.
Licensee | Exelon Generation Co., LLC (EGC or Exelon) and Public Service Enterprise Group Nuclear, LLC (PSEG).
Proposed Action | The NRC's review and approval of PSEG's initial and Exelon's updated DFPs submitted in accordance with 10 CFR 72.30(b) and (c).
Environmental Impacts of Proposed Action | The NRC staff has determined that the proposed action, the review and approval of PSEG's initial and Exelon's updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of PSEG's initial and Exelon's updated DFPs. The scope of the proposed action does not include, and will not result in, the review and approval of decontamination or decommissioning activities or license termination for the ISFSI or for other parts of Peach Bottom Atomic Power Station Units 1, 2 and 3. Therefore, the NRC staff determined that approval of the initial and updated DFPs for the Peach Bottom ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| PSEG, 2012. Decommissioning Funding Plan for the Independent Spent Fuel Storage Installations [Peach Bottom, Hope Creek and Salem]. December 17, 2012. ADAMS Accession No. ML12353A037.
| Exelon Generation Company, LLC (EGC), 2015. Report on Status of Decommissioning Funding for Reactors and Independent Spent Fuel Storage Installation. March 31, 2015. ADAMS Accession No. ML15090A537.
| Public Service Enterprise Group Nuclear, LLC (PSEG), 2015. Decommissioning Funding Plan for Independent Spent Fuel Storage Installations [Peach Bottom, Hope Creek and Salem]. December 17, 2015. ADAMS Accession No. ML15351A336.
| Exelon Generation Company, LLC (EGC), 2018. Response to Request for Additional Information Regarding Decommissioning Funding Plans for Independent Spent Fuel Storage Installations (ISFSls). May 2, 2018. ADAMS Accession No. ML18124A197.
| PSEG, 2018. Response to Request for Additional Information (RAI), Regarding Decommissioning Funding Plan Update for Salem and Hope Creek, and Peach Bottom Independent Spent Fuel Storage Installations, Docket Nos. 72-48 and 72-29. May 7, 2018. ADAMS Accession No. ML18127A045.
| U.S. Nuclear Regulatory Commission. Letter to D. Allard, Pennsylvania Bureau of Radiation Protection Department of Environmental Protection, re: Review of the Draft EA and FONSI for the Peach Bottom ISFSI Decommissioning Funding Plan (72-29) L24795. October 25, 2016. ADAMS Accession No. ML16299A218.
| U.S. Nuclear Regulatory Commission. Final Environmental Assessment and Finding of No Significant Impacts for Public Service Enterprise Group Nuclear, LLC's Initial and Exelon Generation Company, LLC's Updated Decommissioning Funding Plan Submitted in Accordance with 10 CFR 72.30(b) and (c) for Peach Bottom Independent Spent Fuel Storage Installation. November 2020. ADAMS Accession No. ML20150A244.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Public Service Enterprise Group Nuclear, LLC's Initial Decommissioning Fund Plans Updates for the Salem-Hope Creek and Peach Bottom Independent Spent Fuel Storage Installations. October 2020. ADAMS Accession No. ML20279A577.
| U.S. Nuclear Regulatory Commission's Analysis of Exelon Generation Company, LLC's Initial Decommissioning Funding Plans and Decommissioning Fund Plan Updates for the Braidwood, Byron, Dresden, LaSalle, Limerick, Oyster Creek, Peach Bottom, Quad Cities and Salem Independent Spent Fuel Storage Installations. November 2020. ADAMS Accession No. ML20279A501.
Quad Cities Nuclear Power Station, Units 1 and 2
Docket No. | 72-53.
Licensee | Exelon Generation Co., LLC (EGC or Exelon).
Proposed Action | The NRC's review and approval of Exelon's initial and updated DFPs submitted in accordance with 10 CFR 72.30(b) and (c).
Environmental Impacts of Proposed Action | The NRC staff has determined that the proposed action, the review and approval of Exelon's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's initial and updated DFPs. The scope of the proposed action does not include, and will not result in, the review and approval of decontamination or decommissioning activities or license termination for the ISFSI or for other parts of Quad Cities Nuclear Power Station, Units 1 and 2. Therefore, the NRC staff determined that approval of the initial and updated DFPs for the Quad Cities ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| Exelon Generation Company, LLC (EGC), 2015. Report on Status of Decommissioning Funding for Reactors and Independent Spent Fuel Storage Installation. March 31, 2015. ADAMS Accession No. ML15090A537.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to J. G. Klinger, Illinois Emergency Management Agency Division of Nuclear Safety, re: Review of the Draft EA and FONSI for the Quad Cities Nuclear Power Station Units 1 and 2 ISFSI Decommissioning Funding Plan (72-53) L24796. June 29, 2016. ADAMS Accession No. ML16182A114.
| U.S. Nuclear Regulatory Commission. Final Environmental Assessment and Finding of No Significant Impacts for Exelon Generation Company, LLC's Initial and Updated Decommissioning Funding Plans Submitted in Accordance with 10 CFR 72.30(b) and (c) for Quad Cities Power Station, Units 1 and 2 Independent Spent Fuel Storage Installation. November 2020. ADAMS Accession Package No. ML20150A246.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Exelon Generation Company, LLC's Initial Decommissioning Funding Plans and Decommissioning Fund Plan Updates for the Braidwood, Byron, Dresden, LaSalle, Limerick, Oyster Creek, Peach Bottom, Quad Cities and Salem Independent Spent Fuel Storage Installations. November 2020. ADAMS Accession No. ML20279A501.
Salem Nuclear Generating Station, Units 1 and 2/Hope Creek Generating Station, Unit 1
Docket No. | 72-48.
Licensee | Exelon Generation Co., LLC (EGC or Exelon) and Public Service Enterprise Group Nuclear, LLC (PSEG).
Proposed Action | The NRC's review and approval of Exelon's and PSEG's initial and updated DFPs submitted in accordance with 10 CFR 72.30(b) and (c).
Environmental Impacts of Proposed Action | The NRC staff has determined that the proposed action, the review and approval of Exelon's and PSEG's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's and PSEG's initial and updated DFPs. The scope of the proposed action does not include, and will not result in, the review and approval of decontamination or decommissioning activities or license termination for the shared Salem-Hope Creek ISFSI or for other parts of Salem Generating Station, Units 1 and 2 and Hope Creek, Unit 1. Therefore, the NRC staff determined that approval of the initial and updated DFPs for the Salem-Hope Creek ISFSI will not significantly affect the quality of the human environment, and accordingly, the staff has concluded that a FONSI is appropriate. The NRC staff further finds that preparation of an environmental impact statement (EIS) is not required.
Available Documents | Exelon Generation Company, LLC (EGC), 2012. Proposed Independent Spent Fuel Storage Installation (ISFSI) Decommissioning Funding Plans for Braidwood, Byron, Dresden, LaSalle, Limerick, Oyster Creek, Peach Bottom, Quad Cities, and Salem. December 17, 2012. ADAMS Accession No. ML12353A488.
| PSEG, 2012. Decommissioning Funding Plan for the Independent Spent Fuel Storage Installations [Peach Bottom, Hope Creek and Salem]. December 17, 2012. ADAMS Accession No. ML12353A037.
| Exelon Generation Company, LLC (EGC), 2015. Report on Status of Decommissioning Funding for Reactors and Independent Spent Fuel Storage Installation. March 31, 2015. ADAMS Accession No. ML15090A537.
| Public Service Enterprise Group Nuclear, LLC (PSEG), 2015. Decommissioning Funding Plan for Independent Spent Fuel Storage Installations [Peach Bottom, Hope Creek and Salem]. December 17, 2015. ADAMS Accession No. ML15351A336.
| Exelon Generation Company, LLC (EGC), 2018. Response to Request for Additional Information Regarding Decommissioning Funding Plans for Independent Spent Fuel Storage Installations (ISFSls). May 2, 2018. ADAMS Accession No. ML18124A197.
| PSEG, 2018. Response to Request for Additional Information (RAI), Regarding Decommissioning Funding Plan Update for Salem and Hope Creek, and Peach Bottom Independent Spent Fuel Storage Installations, Docket Nos. 72-48 and 72-29. May 7, 2018. ADAMS Accession No. ML18127A045.
| U.S. Nuclear Regulatory Commission. Letter to P. Baldauf, New Jersey Department of Environmental Protection Division of Environmental Safety and Health, re: Review of the Draft EA and FONSI for the Salem Generation Station ISFSI Decommissioning Funding Plan (72-48) L24791. September 1, 2016. ADAMS Accession No. ML16250A195.
| U.S. Nuclear Regulatory Commission. Final Environmental Assessment and Finding of No Significant Impacts for the PSEG Nuclear, LLC's and Exelon Generation Company, LLC's Initial and Updated Decommissioning Funding Plans Submitted in Accordance with 10 CFR 72.30(b) and (c) for the Independent Spent Fuel Storage Installation Shared by Salem Generating Station, Units 1 and 2 and Hope Creek Generating Station, Unit 1. November 2020. ADAMS Accession Package No. ML20150A247.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Public Service Enterprise Group Nuclear, LLC's Decommissioning Funding Plans and Decommissioning Fund Plan Updates for the Salem-Hope Creek and Peach Bottom Independent Spent Fuel Storage Installations. November 2020. ADAMS Accession No. ML20279A577.
| U.S. Nuclear Regulatory Commission's Analysis of Exelon Generation Company, LLC's Initial Decommissioning Funding Plans and Decommissioning Fund Plan Updates for the Braidwood, Byron, Dresden, LaSalle, Limerick, Oyster Creek, Peach Bottom, Quad Cities and Salem Independent Spent Fuel Storage Installations. November 2020. ADAMS Accession No. ML20279A501.
Zion Nuclear Power Station, Units 1 and 2
Docket No. | 72-1037.
Licensee | Zion Solutions, LLC (ZS) is the general licensee. Exelon Generation Co., LLC (EGC or Exelon) is responsible for final decommissioning of the ISFSI and retains control over the decommissioning funds.
Proposed Action | The NRC's review and approval of Exelon's initial and updated DFPs submitted in accordance with 10 CFR 72.30(b) and (c).
Environmental Impacts of Proposed Action | The NRC staff has determined that the proposed action, the review and approval of Exelon's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impacts | The proposed action does not require changes to the ISFSI's licensed routine operations, maintenance activities, or monitoring programs, nor does it require new construction or land-disturbing activities. The scope of the proposed action concerns only the NRC's review and approval of Exelon's initial and updated DFPs. The scope of the proposed action does not include, and will not result in, the review and approval of decontamination or decommissioning activities or license termination for the ISFSI or for other parts of Zion Nuclear Power Station, Units 1 and 2. Therefore, the NRC staff determined that approval of the initial and updated DFPs for the Zion ISFSI will not significantly affect the quality of the human environment, and accordingly, the staff has concluded that a FONSI is appropriate. The NRC staff further finds that preparation of an environmental impact statement (EIS) is not required.
Available Documents | EGC, 2013. Proposed Independent Spent Fuel Storage Installation (ISFSI) Decommissioning Funding Plan for Zion. October 17, 2013. ADAMS Accession No. ML13291A125.
| EGC, 2016. Independent Spent Fuel Storage Installation (ISFSI) Decommissioning Funding Plan for Zion. October 17, 2016. ADAMS Accession No. ML16291A505.
| Exelon Generation Company, LLC (EGC), 2018. Response to Request for Additional Information Regarding Decommissioning Funding Plans for Independent Spent Fuel Storage Installations (ISFSls). May 2, 2018. ADAMS Accession No. ML18124A197.
| U.S. Nuclear Regulatory Commission. Letter to J. G. Klinger, Illinois Emergency Management Agency Division of Nuclear Safety, re: Review of the Draft EA and FONSI for the Zion Solutions ISFSI Decommissioning Funding Plan (72-1037) L24852. August 17, 2017. ADAMS Accession No. ML17227A037.
| U.S. Nuclear Regulatory Commission. Final Environmental Assessment and Finding of No Significant Impacts for Exelon Generation Company, LLC's Initial and Updated Decommissioning Funding Plans Submitted in Accordance with 10 CFR 72.30(b) and (c) for Zion Independent Spent Fuel Storage Installation. October 2020. ADAMS Accession Package No. ML20212L883.
| U.S. Nuclear Regulatory Commission. Environmental Assessment for Final Rule-Decommissioning Planning. February 1, 2009. ADAMS Accession No. ML090500648.
| U.S. Nuclear Regulatory Commission. Note to File, Re: ESA Section 7 No Effect Determination for ISFSI DFP Reviews. May 15, 2017. ADAMS Accession No. ML17135A062.
| U.S. Nuclear Regulatory Commission's Analysis of Exelon Generation Company, LLC's Initial and Updated Decommissioning Funding Plans for Zion Independent Spent Fuel Storage Installation. October 2020. ADAMS Accession No. ML20279A558.

Dated: November 20, 2020.
For the Nuclear Regulatory Commission.
John B. McKirgan,
Chief, Storage and Transportation Licensing Branch, Division of Fuel Management, Office of Nuclear Material Safety and Safeguards.

[FR Doc. 2020-26144 Filed 11-27-20; 8:45 am]

BILLING CODE 7590-01-P